SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: October 1-31, 2017.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and 806.22 (f) for the time period specified above:

Approvals by Rule Issued Under 18 CFR 806.22(e)

1. Panda Patriot, LLC, ABR-201301006.1, Clinton Township, Lycoming County, Pa.; Modification of Consumptive Use of Up to 0.2000 mgd; Approval Date: October 5, 2017.

2. Panda Liberty, LLC, ABR-201301007.1, Asylum Township, Bradford County, Pa.; Modification of Consumptive Use of Up to 0.2000 mgd; Approval Date: October 5, 2017.

Approvals by Rule Issued Under 18 CFR 806.22(f)

1. Chesapeake Appalachia, LLC, Pad ID: Jes, ABR-201303008.R1, Wilmot Township, Bradford County, Pa.; Consumptive Use of Up to 7.5000 mgd; Approval Date: October 2, 2017.

2. SWN Production Company, LLC, Pad ID: Bolles South Well Pad, ABR-201210017.R1, Franklin Township, Susquehanna County, Pa.; Consumptive Use of Up to 4.9990 mgd; Approval Date: October 4, 2017.

3. SWN Production Company, LLC, Pad ID: SHELDON EAST PAD, ABR-201211013.R1, Thompson Township, Susquehanna County, Pa.; Consumptive Use of Up to 4.9990 mgd; Approval Date: October 4, 2017.

4. SWN Production Company, LLC, Pad ID: LOKE PAD, ABR-201211014.R1, New Milford Township, Susquehanna County, Pa.; Consumptive Use of Up to 4.9990 mgd; Approval Date: October 4, 2017.

5. SWN Production Company, LLC, Pad ID: Mordovancey Well Pad, ABR-201209023.R1, Choconut Township, Susquehanna County, Pa.; Consumptive Use of Up to 4.9990 mgd; Approval Date: October 16, 2017.

6. Chesapeake Appalachia, LLC, Pad ID: Lasher, ABR-201303010.R1, Auburn Township, Susquehanna County, Pa.; Consumptive Use of Up to 7.5000 mgd; Approval Date: October 16, 2017.

7. SWN Production Company, LLC, Pad ID: Wootton East Well Pad, ABR-201209020.R1, Liberty Township, Susquehanna County, Pa.; Consumptive Use of Up to 4.0000 mgd; Approval Date: October 16, 2017.

8. SWN Production Company, LLC, Pad ID: Reber-Dozier Well Pad, ABR-201210005.R1, Liberty Township, Susquehanna County, Pa.; Consumptive Use of Up to 4.0000 mgd; Approval Date: October 16, 2017.

9. Seneca Resources Corporation, Pad ID: DCNR 100 Pad T, ABR-201301013.R1, Lewis Township, Lycoming County, Pa.; Consumptive Use of Up to 4.0000 mgd; Approval Date: October 17, 2017.

10. Chief Oil & Gas, LLC, Pad ID: Lightcap, ABR-201303009.R1, Overton Township, Bradford County and Elkland Township, Sullivan County, Pa.; Consumptive Use of Up to 7.5000 mgd; Approval Date: October 19, 2017.

11. Cabot Oil & Gas Corporation, Pad ID: AldrichL P1, ABR-201210002.R1, Gibson Township, Susquehanna County, Pa.; Consumptive Use of Up to 5.0000 mgd; Approval Date: October 23, 2017.

12. Cabot Oil & Gas Corporation, Pad ID: RutkowskiB P1, ABR-201210003.R1, Lenox Township, Susquehanna County, Pa.; Consumptive Use of Up to 5.0000 mgd; Approval Date: October 23, 2017.

13. Cabot Oil & Gas Corporation, Pad ID: BrayB P1, ABR-201210004.R1, Auburn Township, Susquehanna County, Pa.; Consumptive Use of Up to 5.0000 mgd; Approval Date: October 23, 2017.

14. SWEPI LP, Pad ID: Delaney 651, ABR-201209013.R1, Sullivan Township, Tioga County, Pa.; Consumptive Use of Up to 4.0000 mgd; Approval Date: October 23, 2017.

Authority: Pub. L. 91-575, 84 Stat. 1509 et seq., 18 CFR parts 806, 807, and 808.

Dated: November 14, 2017.
Stephanie L. Richardson,
Secretary to the Commission.

[FR Doc. 2017-24985 Filed 11-16-17; 8:45 am]

BILLING CODE 7040-01-P